FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
TRANSACTIONS GRANTED EARLY TERMINATION—06/05/2000
20003114 | News Corporation Limited (The) | OmniSky Corporation | OmniSky Corporation
20003121 | Miami Computer Supply Corporation | Thomas S. Roberts | Midwest Visual Equipment Co., Inc.
20003140 | Ted H. McCourtney | Michael Karp | ATX Telecommunications Services, Inc.
20003141 | George S. Blumenthal | Michael Karp | ATX Telecommunications Services, Inc.
20003142 | J. Barclay Knapp | Michael Karp | ATX Telecommunications Services, Inc.
20003143 | Oryx Capital International, Ltd. | Edward C. Lynch and Virginealee Lynch | Pacific Foods, Inc.
20003167 | Takata Corporation | Petri Aktiengesellschaft | Petri Aktiengesellschaft
20003190 | Horizon Telcom, Inc. | Bright Personal Communications Services, LLC | Bright Personal Communications Services, LLC
20003249 | JD Heiskell & Co. | Tate & Lyle PLC | PM Ag Products Incorporated
20003260 | John E. McGrath | Tricon Global Restaurants, Inc. | KFC National Management Company
20003308 | Del Mintz | Michael Karp | ATX Telecommunications Services, Inc.
20003310 | General Electric Company | Milton M. Smith | TPI Aviation Holdings, Inc.
20003335 | Omnicom Group Inc. | MB Techologies Limited | Live Technology Holdings, Inc.
20003336 | Omnicom Group Inc. | Wayne Reuvers | Live Technology Holdings, Inc.
20003358 | Wayne Jones | Theodore C. Hohman | Progressive Industries, Inc.
20003359 | Wayne Jones | James J. Zawacki | Progressive Industries, Inc.
TRANSACTIONS GRANTED EARLY TERMINATION—06/06/2000
20003276 | Sumner M. Redstone | Peter J. Callahan | Palm Beach Radio Broadcasting, Inc.
20003299 | President and Fellows of Harvard College | Merchant's, Inc. | Merchant's, Inc.
20003307 | Clarent Corporation | ACT Networks, Inc. | ACT Networks, Inc.
20003309 | General Electric Company | H. Porter Burns | TPI Aviation Holdings, Inc.
20003315 | Jon Munger | CKE Restaruants, Inc. | Hardee's Food Systems, Inc.
20003316 | The Garfield Weston Charitable Foundation | Lonza Group Limited | Lonnza, Inc.
20003320 | Clayton, Dubilier & Rice Fund VI Limited Partnership | Craig O. McCaw | ICO-Teledesic Global Limited
20003331 | Berkshire Hathaway Inc. | U.S. Investment Corporation | U.S. Investment Corporation
20003334 | BP Amoco p.l.c. | Motiva Enterprises LLC | First Coast Energy, L.L.P.
20003337 | Photobition Group plc | Mark Shriro | Shriro Universal Washington Inc.
20003338 | B III Capital Partners, L.P. | Samuels Jewelers, Inc. | Samuels Jewelers, Inc.
20003347 | Harsco Corporation | John Mowlem & Company PLC | SGB Group plc
20003351 | Warburg, Pincus Equity Partners, L.P. | Transkaryotic Therapies, Inc. | Transkaryotic Therapies, Inc.
20003355 | Network Commerce Inc. | Joseph A. Liemandt | IveBeenGood.com, Inc.
20003367 | Cardinal Health, Inc. | Rexam PLC | Rexam Cartons Inc.
20003373 | Stephens Group, Inc. | StaffMark, Inc. | StaffMark, Inc.
20003377 | Vestar Capital Partners IV, L.P. | GS Capital Partners II, L.P. | MCG Credit Corporation
20003378 | Quantum Industrial Holdings Ltd. | GS Capital Partners II, L.P. | MCG Credit Corporation
20003381 | SLM Holding Corporation | Thomas L. Conland Education Foundation | Student Loan Funding Resources, Inc.
20003389 | Gateway, Inc. | iXL Enterprises, Inc. | Consumer Financial Network
20003395 | Ford Motor Company | Bayerische Motoren Werke Aktiengesellschaft AG | Land Rover Group USA, Inc.; Land Rover Group Limited
20003397 | Compagnie Luxembourgeoise pour L'Audiovisuel et la Finance | Pearson plc | Pearson Television Holdings, Inc. Pearson Television North America, Inc.
20003410 | GTCR Fund VII, L.P. | Coinmach Laundry Corporation | Coinmach Laundry Corporation
20003412 | Reuters Group PLC | Pedestal Inc. | Pedestal Inc.
20003413 | The LCM Irrevocable Trust | Thomas L. Gegax | Team Tires Plus, Ltd.
20003414 | Grupo IMSA, S.A. de C.V. | The Broken Hill Proprietary Co., Ltd. (an Australian corp.) | BHP Coated Steel corporation BHP Steel Building Products USA Inc.
TRANSACTIONS GRANTED EARLY TERMINATION—06/07/2000
20003113 | Stephan Adams | Robert H. Willard | Horizon Outdoor Advertising, Inc.
20003393 | MBNA Corporation | Old National Bancorp | Old National Bank
TRANSACTIONS GRANTED EARLY TERMINATION—06/08/2000
20003326 | BP Amoco p.l.c. | GreenMountain.com Company | GreenMountain.com Company
20003327 | Enron Corp. | MG plc | MG plc
20003350 | OptiCare Eye Health Systems, Inc. | Vision Twenty-One, Inc. | Vision Twenty-One, Inc.
20003368 | David H. Murdock | Castle & Cooke, Inc. | Castle & Cooke, Inc.
20003370 | Lynda L. Cameron | David A. New, Sr. | American Public Holdings, Inc.
20003375 | Radio One, Inc | Sumner M. Redstone | Infinity Broadcasting Corporation of Dallas
20003376 | Dan River Inc. | Westdeutsche Landesbank Girozentrale | WesTek Inc.
20003380 | The BOC Group plc | Joray Corporation | Joray Corporation
20003419 | BBA Group PLC | Volco Filtration Holding, Inc. | Snow Filtration Company, LLC
TRANSACTIONS GRANTED EARLY TERMINATION—06/09/2000
20002914 | Dexia S.A. | White Mountains Insurance Group, Ltd. | White Mountain Holdings, Inc.
20003224 | Cox Enterprises, Inc. | United News&Media plc | National Titles, Inc. UAP Delaware, Inc., UAPnet United Parenting Publications, Inc.
20003233 | Victor T. DiVello | Allied Waste Industries, Inc. | Allied Waste Industries, Inc.
20003325 | Sumner M. Redstone | Bernard Waterman | Waterman Broadcasting Corporation of Texas
20003332 | Fariborz Maseeh | Corning Incorporated | Corning Incorporated
20003333 | Corning Incorporated | Fariborz Maseeh | IntelliSense Corporation
20003371 | William M. Cameron | David A. New, Sr. | American Public Holdings, Inc.
20003394 | CRH plc | Ashland Inc. | APAC, Inc. APAC-Alabama, Inc. APAC-Arkansas, Inc.
20003396 | W.R. Grace & Co. | E.I. du Pont de Nemours & Company | E.I. du Pont de Nemours & Company
20003408 | Charter Oak Partners | Bank of America Corporation | Plastic Engineered Components, Inc.
20003409 | Naspers Limited | Spyglass, Inc. | Spyglass, Inc.
20003418 | Vignette Corporation | OnDisplay, Inc. | OnDisplay, Inc.
003449 | SCM Microsystems, Inc. | Mr. Kazuo Kanayama | Microtech International, Inc.
TRANSACTIONS GRANTED EARLY TERMINATION-06/12/2000
20003248 | Raul Alarcon, Jr. | The Marcos and Sonya Rodriguez Family Trust | Rodriguez Communications, Inc.
20003324 | Code Hennessy & Simmons, LLC | Abington Settlement | Precise Holding Corporation
20003387 | Koninklijke Philips Electronics N.V. | International Business Machines Corporation | International Business Machines Corporation
20003399 | The Chase Manhattan Corporation | Beacon Group, LLC | Beacon Group, LLC
20003423 | Dura Pharmaceuticals, Inc. | Spiros Development Corporation II, Inc. | Spiros Development Corporation II, Inc.
20003424 | Enesco Group, Inc. | Jonathan D. Butcher | Precious Moments by Samuel J. Butcher, Inc. Precious Moments Company Precious Moments, Incorporated
20003427 | Centennial Communications Corp. | Marshall W. Pagon | MCT Cablevision, Limited Partnership Pegasus Cable Television of San German, Inc.
20003431 | E. Stanley Kroenke | AT&T Corp. Pegasus Media & Communications, Inc. | Colorado Avalanche, LLC The Denver Nuggets Limited Partnership
20003432 | GN Great Nordic AS | JABRA Corporation | JABRA Corporation
20003437 | America Online, Inc. | Yodlee.com, Inc. | Yodlee.com, Inc.
20003439 | First National of Nebraska, Inc. | InfiCorp Holdings, Inc. | InfiCorp Holdings, Inc.
20003441 | Haftpflichtverband Der Deutchen Industrie V.a.G. | Acceptance Insurance Companies Inc. | Redland Insurance Company
20003442 | GlobeSpan, Inc. | iCompression, Inc. | iCompression, Inc.
20003444 | Deutsche Bank AG | Resun Leasing, Inc. | Resun Leasing, Inc.
20003446 | The Peninsular and Oriental Steam Navigation Company | Farrell Lines Incorporated | Farrell Lines Incorporated
20003447 | Royal Nedlloyd N.V. | Farrell Lines Incorporated | Farrell Lines Incorporated
20003448 | CSR Limited | Grupo Mexico, S.A. de C.V. | American Limestone Company, Inc.
20003451 | InterNAP Network Services Corporation | CO Space, Inc. | CO Space, Inc.
20003454 | The Interpublic Group of Companies, Inc. | Gordon Gund | Nationwide Advertising Services, LLC
20003455 | Societe Cooperative Agricole LImagrain | KWS SAAT AG | Great Lakes Hybrids, Inc.
20003467 | HealthCare Ventures V, L.P. | OraSure Technologies, Inc. | OraSure Technologies, Inc.
20003476 | Providence Equity Partners III, LP | SoftAware, Inc. | SoftAware, Inc.
20003484 | Royal Carribean Cruises Ltd. | Newco | Newco
20003485 | First Choice Holidays PLC | Newco | Newco
TRANSACTIONS GRANTED EARLY TERMINATION—06/13/2000
20003422 | Edwards Lifesciences Corporation | Valentine Acquisition Corp. | Valentine Acquisition Corp.
20003458 | SBC Communications Inc. | E.N.M.R. Telephone Cooperative | Plateau Telecommunications, Incorporated
20003488 | QLogic Corporation | Ancor Communications, Incorporated | Ancor Communications, Incorporated
20003489 | Franciscan Missionaries of Our Lady Health System, Inc | LifePoint Hospitals, Inc. | Riverview Medical Center, LLC
20003490 | The Hub Group Limited | Cornelius J. McCarthy | C.J. McCarthy Business Trust
20003491 | Exchange Application, Inc. | Customer Analytics Holdings, Inc. | Customer Analytics Holdings, Inc.
20003492 | Oak Hill Capital Partners, L.P. | Align Technology, Inc. | Align Technology, Inc.
TRANSACTIONS GRANTED EARLY TERMINATION—06/14/2000
20003385 | John Rutledge Partners II, L.P. | Summit Technology, Inc. | Lens Express, Inc.
20003411 | Republic Services, Inc. | Larry J. Schuchman | The recycling Group, Inc., LAJCG, Inc.
20003430 | Nippon Telegraph and Telephone Corporation | Verio, Inc | Verio, Inc.
20003469 | Safeguard Scientifics, Inc | OPUS360 Corporation | OPUS360 Corporation
20003471 | The Walt Disney Company | Marcos A. Rodriquez | Hibernia Communications, LLC
20003493 | Highland 2000, L.P | Adelphia Communication Corporation | Adelphia Communication Corporation
20003495 | Rodney L. Hale | Finance Enterprises, Ltd | Grand Pacific Life Insurance, Ltd.
20003498 | Koninklijke Phillips Electronics N.V | MedQuist Inc | MedQuist Inc.
20003499 | Marconi plc | Miguel G. Winder | Systems Management Specialists, Inc.
20003503 | Ledcor Inc | Praha Trust | Meet Me Room, LLC TRES Management, LLC
20003510 | Associated Food Stores, Inc | Sibbley Company, Ltd | Dan's Foods, Inc.
20003524 | GMP Companies, Inc | Motorola, Inc | Motorola, Inc.
TRANSACTIONS GRANTED EARLY TERMINATION—06/15/2000
20003237 | Carl J. Martignetti | Burton J. Miller and Nesha R. Miller (husband and wife) | Classic Wine Imports, Inc.
20003238 | Carmine A. Martignetti | Burton J. Miller and Nesha R. Miller (husband and wife) | Classic Wine Imports, Inc.
20003239 | Carl J. Martignetti | Robert W. Hoffman | Classic Wine Imports, Inc.
20003240 | Carmine A. Martignetti | Robert Hoffman | Classic Wine Imports, Inc.
20003271 | CRH plc | Manitou Construction Company, Inc. | Manitou Construction Company, Inc.
20003415 | King Pharaceuticals, Inc | American Home Products Corporation | American Home Products Corporation
20003416 | American Home Products Corporation | King Pharmaceuticals, Inc | King Pharmaceuticals, Inc.
20003504 | Carlyle Partners III, L.P | Align Technology, Inc | Align Technology, Inc.
TRANSACTIONS GRANTED EARLY TERMINATION—06/16/2000
20001874 | Franklin P. Perdue | Cargill, Incorporated | Cargill, Incorporated
20003440 | The Interpublic Group of Companies, Inc | Capita Technologies, Inc | Capita Technologies, Inc.
20003512 | Novartis Pharma AG | Vertex Pharmaceuticals Incorporated | Vertex Pharmaceuticals Incorporated
20003513 | Jerry C. Moyes | Simon Transportation Services Inc | Simon Transportation Services Inc.
20003523 | Linc.net, Inc | Felix Petrillo | Felix Communications Corp., Felix General Contracting Inc., Felix Equities of Fla., Inc. Felix Equities, Inc., Felix Industries, Inc.

FOR FURTHER INFORMATION CONTACT: Sandra M. Peay or Parcellena P. Fielding, Contact Representatives, Federal Trade Commission, Premerger Notification Office, Bureau of Competition, Room 303, Washington, DC 20580, (202) 326-3100.

By direction of the Commission.
Donald S. Clark,
Secretary.

[FR Doc. 00-17226 Filed 7-6-00; 8:45 am]

BILLING CODE 6750-01-M